COMMISSION ON CIVIL RIGHTS

Agenda and Notice of Public Meeting of the Southeastern Advisory Committee

Notice is hereby given, pursuant to the provisions of the rules and regulations of the U.S. Commission on Civil Rights, that a conference call of subcommittees of the Advisory Committees to the Commission from the southern region (Florida, Georgia, Kentucky, North Carolina, South Carolina and Tennessee) will convene at 2 p.m. and adjourn at 3 p.m. on Thursday, June 12, 2003. The purpose of the conference call is to discuss ways in which the Advisory Committees can achieve meaningful outcomes when considering civil rights issues in their respective states.

This conference call is available to the public through the following call-in number: 1-800-659-1145, access code 17256829. Any interested member of the public may call this number and listen to the meeting. Callers can expect to incur charges for calls not initiated using the supplied call-in number or over wireless lines and the Commission will not refund any incurred charges. Callers will incur no charge for calls using the call-in number over land-line connections. Persons with hearing impairments may also follow the proceedings by first calling the Federal Relay Service at 1-800-977-8339 and providing the Service with the conference call number and access code.

To ensure that the Commission secures an appropriate number of lines for the public, persons are asked to register by contacting Bobby Doctor, Director of the Southern Regional Office, 404-562-7000 (TDD 400-562-7004), by 4 p.m. on Wednesday, June 11, 2003.

The meeting will be conducted pursuant to the provisions of the rules and regulations of the Commission.

Dated in Washington, DC, June 2, 2003.
Ivy L. Davis,
Chief, Regional Programs Coordination Unit.

[FR Doc. 03-14946 Filed 6-12-03; 8:45 am]

BILLING CODE 6335-01-P